DEPARTMENT OF THE INTERIOR

Geological Survey

Announcement of National Geospatial Advisory Committee Meeting

AGENCY: U.S. Geological Survey, Interior.

ACTION: Notice of meeting.

SUMMARY: The National Geospatial Advisory Committee (NGAC) will meet on June 22-23, 2010 at the National Conservation Training Center, 698 Conservation Way, Shepherdstown, WV 25443. The meeting will be held in Room #201 Instructional East.

The NGAC, which is composed of representatives from governmental, private sector, non-profit, and academic organizations, has been established to advise the Chair of the Federal Geographic Data Committee on management of Federal geospatial programs, the development of the National Spatial Data Infrastructure, and the implementation of Office of Management and Budget (OMB) Circular A-16. Topics to be addressed at the meeting include:

—Recent FGDC Activities.

—Overview of Geospatial Platform Initiative.

—NGAC Feedback on Geospatial Platform.

—NGAC Subcommittee Work Plans.

—NGAC Action Plan.

The meeting will include an opportunity for public comment during the morning of June 23. Comments may also be submitted to the NGAC in writing.

Members of the public who wish to attend the meeting must register in advance for clearance into the meeting site. Please register by contacting Arista Maher at the Federal Geographic Data Committee (703-648-6283, amaher@fgdc.gov). Registrations are due by June 14. While the meeting will be open to the public, seating may be limited due to room capacity. Members of the public who cannot attend in person may listen to the meeting via conference call. Please register in advance for the conference call by contacting Arista Maher at the Federal Geographic Data Committee (703-648-6283, amaher@fgdc.gov). Conference call registrations are due by June 14. Instructions will be provided. The number of participants may be limited by conference line capacity.

DATES: The meeting will be held on June 22 from 8:30 a.m. to 5 p.m. and on June 23 from 8:30 a.m. to 4 p.m.

FOR FURTHER INFORMATION CONTACT: John Mahoney, U.S. Geological Survey (206-220-4621).

SUPPLEMENTARY INFORMATION: Meetings of the National Geospatial Advisory Committee are open to the public. Additional information about the NGAC and the meeting are available at http://www.fgdc.gov/ngac.

Dated: May 27, 2010.
Ken Shaffer,
Deputy Executive Director, Federal Geographic Data Committee.

[FR Doc. 2010-13289 Filed 6-1-10; 8:45 am]

BILLING CODE 4311-AM-P